DEPARTMENT OF TRANSPORTATION

Federal Aviation Administration

14 CFR Parts 61, 91, 119, 121, 135, and 136

[Docket No. FAA-1998-4521; Notice No. 04-02]

RIN 2120-AF07

National Air Tour Safety Standards

AGENCY: Federal Aviation Administration (FAA), DOT.

ACTION: Notice of public meeting on the Internet.

SUMMARY: On October 22, 2003, the FAA published a notice of proposed rulemaking (NPRM) that proposes regulations to govern commercial air tours throughout the United States. We are announcing an Internet public meeting to supplement the traditional comment period. The public meeting will help us consider the concerns of those who may be most affected by the proposed rule as we develop a final rule that will promote safety in the commercial air tour industry.

DATES: You may access the public meeting at any time beginning February 23, 2004, at 9 a.m. EST and ending on March 5, 2004, at 4:30 p.m. EST.

ADDRESSES: You may access the on-line public meeting at http://www.faa.gov/avr/arm/rulemakingforum.cfm?nav=part. Under the ‘View Docket/Comments’ column, click once on ‘Enter Public Meeting.’ Follow the instructions to participate in the discussion.

You may submit written comments to the docket, whether or not you participate in the public meeting. Address your comments to the Docket Management System, U.S. Department of Transportation, Room Plaza 401, 400 Seventh St., SW., Washington, DC 20590-0001. You must identify the docket number FAA-1998-4521 at the beginning of your comments, and you should submit two copies of your comments. The public meeting on the Internet is intended to supplement the docket. A copy of the discussion from the public meeting will be submitted to the docket after the close of the public meeting.

You may also submit comments through the Internet to http://dms/dot.gov. You may review the public docket containing comments to these proposed regulations in person in the Dockets Office between 9 a.m. and 5 p.m., Monday through Friday, except Federal holidays. The Dockets Office is on the plaza level at the Department of Transportation building at the address above. Also, you may review public dockets on the Internet at http://dms.dot.gov.

FOR FURTHER INFORMATION CONTACT: Alberta Brown, Air Transportation Division, Flight Standards Service, AFS-200, Federal Aviation Administration, 800 Independence Avenue, SW., Washington, DC 20591; telephone (202) 267-8166; e-mail: Alberta.Brown@faa.gov.

SUPPLEMENTARY INFORMATION

Background

We published a notice of proposed rulemaking on October 22, 2003 (68 FR 60572) that proposes to regulate commercial air tours throughout the United States. The notice provided a 90-day comment period that was to end on January 20, 2004. We received significant response to this NPRM, including numerous requests to extend the comment period and to conduct a series of public meetings. On January 16, 2004, we published a notice to extend the comment period an additional 90 days to April 19, 2004 (69 FR 2529).

Public Meeting on the Internet

We have carefully considered the requests for a series of public meetings. Traditionally, public meetings have been useful when we have been able to identify a geographic area that may be most affected by a proposed rule. We could then supplement the comment period with a public meeting that would allow those most affected to express their views directly to FAA representatives. As of the date of this notice, we have received approximately 1,500 comments in docket FAA-1998-4521. Most of the comments are from individuals or small aviation businesses. The persons who submitted these comments are widely dispersed throughout the country, many of them in small communities. It would be impractical to conduct a public meeting in every community in America where someone could be affected by the proposed rule. If we were to choose to hold public meetings only in areas where large tour operators are located, they would have a disproportionate opportunity to participate, to the disadvantage of the many small operators who have responded to this proposed rule.

The Internet allows us to overcome the barriers of geography and enables anyone with an Internet connection to participate in a public discussion of the issues. A further advantage of a public meeting on the Internet is that it is not limited by time. A traditional public meeting would be scheduled at a particular place, on a particular day, at a specific time. Anyone with a schedule conflict may be unable to participate. A public meeting on the Internet can be available 24 hours per day over a period of several weeks. A public meeting held on the Internet, like a traditional public meeting, provides the opportunity to obtain useful information from the public. It has the additional advantage of allowing much broader participation throughout the country. We have therefore decided to hold a public meeting on the Internet.

How the Public Meeting Will Be Conducted

To facilitate an organized and useful discussion of the issues, we will divide the discussion into three forums that will address specific areas of the proposed rule. The three forums will be:

1. Community and charity events. This forum will discuss portions of the proposed rule that may affect persons who provide aerial sightseeing rides for charitable purposes or at community events.

2. Part 91 sightseeing in accordance with the 25-mile exception. This forum will discuss portions of the proposed rule that may affect persons who are not currently required to obtain an operating certificate because they conduct nonstop sighseeing flights that begin and end at the same airport and are conducted within a 25-mile radius of that airport under the exception found in section 119.1(e)(2).

3. Part 121 and part 135 commercial air tour operators. This forum will include discussion of portions of the proposed rule that may affect commercial air tour operators who conduct tours with an air carrier certificate under part 119 and operate under the rules of part 121 or 135 of Chapter 14 of the Code of Federal Regulations.

It is possible that some may wish to participate in more than one forum within the public meeting. You can participate in as many forums as you wish. To focus the discussion and encourage responses that will help us address both safety issues and concerns of those affected by the proposed rule, in each forum we will solicit responses to specific questions. You will be able to read the questions on-line and submit your answers and comments electronically. We will participate in the discussion throughout the 2-week forum and may ask you clarifying questions. While we have selected topics that we are particularly interested in, we still welcome all of your comments and suggestions. We will not make any commitments or draw any conclusions while the docket is open for public comment.

Issued in Washington, DC, on February 5, 2004.
Anthony F. Fazio,
Director, Office of Rulemaking.

[FR Doc. 04-2911 Filed 2-6-04; 11:13 am]

BILLING CODE 4910-13-P